ELECTION ASSISTANCE COMMISSION

Sunshine Act Meetings

Agency: United States Election Assistance Commission.

Action: Notice of Public Teleconference Meetings for the Working Subcommittees of the Technical Guidelines Development Committee.

Dates & Times: Tuesday August 6, 2007 at 10:30 a.m. ET. Thursday, August 9, 2007, at 1 a.m. ET. Friday, August 10, 2007 at 11 a.m. ET. Tuesday August 14, 2007 at 10:30 a.m. ET.

Status: Audio recordings or working subcommittee teleconferences are available upon conclusion of each meeting at: http://vote.nist.gov/subcomm_mtgs.htm. Agendas for each teleconference will be posted approximately one week in advance of each meeting at the above Web site.

Summary: The Technical Guidelines Development Committee (the “Development Committee” was established to act in the public interest to assist the Executive Director of the U.S. Election Assistance Commission (EAC) in the development of voluntary voting system guidelines. The Committee held their first plenary meeting on July 9, 2004. At this meeting, the Development Committee agreed to a resolution forming three working groups: (1) Human Factors & Privacy; (2) Security & Transparency; and (3) Core Requirements & Testing to gather and analyze information on relevant issues. These working subcommittees propose resolutions to the TGDC on best practices, specifications and standards. Specifically, NIST staff and Committee members will meet via the above scheduled teleconferences to review and discuss progress on tasks defined in resolutions passed at Development Committee plenary meetings. The resolutions define technical work tasks for NIST that will assist the Committee in developing recommendations for voluntary voting system guidelines. The Committee met in its eighth plenary session on March 22-23, 2007. Documents and transcriptions of Committee proceedings are available at: http://vote.nist.gov/PublicHearingandMeetings.html.

Purpose: At the direction of the Committee and with technical support from NIST staff, the three working subcommittees gather and analyze information relevant to requirement recommendations fro the next iteration of the voluntary voting system guidelines. The Human Factors and Privacy Subcommittee considers usability, accessibility, and privacy functions of voting systems and the environment of the polling place. The Secretary and Transparency Subcommittee considers the security of computers, computer networks and computer data storage used in voting systems. The Core Requirements and Testing Subcommittee considers precise and testable specifications for voting systems. The Subcommittees' recommendations are then presented to the Development Committee as a whole at public plenary sessions.

Supplementary Information: The Technical Guidelines Development Committee (the “Development Committee”) was established pursuant to 42 U.S.C. 15361, to act in the public interest to assist the Executive Director of the Election Assistance Commission in the development of the voluntary voting system guidelines. The information gathered and analyzed by the working subcommittees during their teleconference meetings will be reviewed at future Development Committee plenary meetings.

Contact Information: Allan Eustis, 301-975-5099. If a member of the public would like to submit written comments concerning the Committee's affairs at any time before or after subcommittee teleconference meetings, written comments should be addressed to the contact person indicated above or to voting@nist.gov.

Thomas R. Wilkey,
Executive Director, U.S. Election Assistance Commission.

[FR Doc. 07-3760 Filed 7-27-07; 8:45 am]

BILLING CODE 6820-KF-M